DEPARTMENT OF ENERGY

Federal Energy Regulatory Commission

[Docket Nos. ER01-1257-000, ER01-1258-000, and ER01-1259-000]

Bridgeport Harbor Power LLC; New Haven Harbor Power LLC; NRG Connecticut Power Assets LLC; Notice of Filing

April 18, 2001.

Take notice that on April 11, 2001, Bridgeport Harbor Power LLC (BHP) and New Haven Harbor Power LLC (NHHP), pursuant to Rule 205 of the Rules of Practice and Procedure of the Federal Energy Regulatory Commission (Commission), 18 CFR 385.205, and part 35 of the Commission's regulations under the Federal Power Act (FPA), 18 CFR part 35, tendered a withdrawal of their respective (1) proposed market-based FERC Electric Rate Schedules No. 1 and (2) requests for a (a) blanket authority to market-based wholesale sales of capacity and energy under their rate schedules, (b) authority to sell ancillary services at market-based rates, and (c) waivers and blanket authorizations the Commission has granted to other nonfranchised entities with market-based rate authorization. NRG Connecticut Power Assets LLC (NRG Connecticut), which was a party to the joint application with BHP and NHHP, still seeks acceptance of its FERC Electric Rate Schedule No. 1 and authority to make wholesale sales of capacity, energy, and ancillary services at market-based rates and, as such, amended its request to reflect the withdrawals of BHP and NHHP.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before May 2, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Comments, protests and interventions may be filed electronically via the internet in lieu of paper. See, 18 CFR 385.2001(a)(1)(iii) and the instructions on the Commission's web site at http://www.ferc.fed.us/efi.doorbell.htm.

David P. Boergers,
Secretary.

[FR Doc. 01-10033 Filed 4-23-01; 8:45 am]

BILLING CODE 6717-01-M